DEPARTMENT OF JUSTICE

Office of Justice Programs

[OJP (OJJDP) Docket No. 1472]

Meeting of the Federal Advisory Committee on Juvenile Justice

AGENCY: Office of Juvenile Justice and Delinquency Prevention, Office of Justice Programs, Justice.

ACTION: Notice of meeting.

SUMMARY: The Office of Juvenile Justice and Delinquency Prevention (OJJDP) is announcing the fall meeting of the Federal Advisory Committee on Juvenile Justice (FACJJ), which will be held in Denver, CO on Sunday and Monday, October, 21 and 22, 2007. (The FACJJ meeting is being held in conjunction with the OJJDP State Relations and Assistance joint training and the DMC Annual Conference, which will also be held in the Adam's Mark Hotel from Tuesday through Saturday, October 23 to 27, 2007.) The meeting times and location of the FACJJ meeting are noted below.

DATES: The schedule of events is as follows:

1. Sunday, October 21, 2007, 3:30 p.m. to 6:30 p.m.

2. Monday, October 22, 2007, 8 a.m. to 5:30 p.m.

Location: All meeting sessions will take place at the Adam's Mark Hotel, 1550 Court Place, Denver, CO 80202.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to section 3(2)A of the Federal Advisory Committee Act (5 U.S.C. App.2), will meet to carry out its advisory functions under section 223(f)(2)(C-E) of the Juvenile Justice and Delinquency Prevention Act of 2002. The FACJJ is composed of one representative from each state and territory. FACJJ duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

Meeting Agenda

1. Sunday, October 21, 2007

3:30 p.m.-6:30 p.m. Registration; Welcome, Review of the Agenda; Discussion of State Best Practices; Preliminary Report of the Responses to the 2007 Request for Information; Overview of the 2008 Annual Report Drafts and Member Assignments (Open Session).

2. Monday, October 22, 2007

8:30 a.m.-9 a.m. Call to Order by the Chair of the FACJJ and Remarks by the Administrator of OJJDP and Instructions for Review of the Annual Report Drafts (Open Session).

9 a.m.-12 p.m. and 2 p.m.-4:45 p.m. Drafting, Deliberation and Reconciliation of Comments on the 2008 Draft Reports to the President, Congress, and the Administrator of OJJDP in Small Group and Plenary Sessions (Open Session).

12 p.m.-1:45 p.m. Subcommittee Meetings and Lunch (Closed Sessions).

1:45 p.m.-2:15 p.m. Subcommittee Report Outs (Open Session).

4:45 p.m.-5:30 p.m. Election of Officers for 2008, Other Business, Closing Remarks and Adjournment (Open Session).

For security purposes, members of the FACJJ and of the public who wish to attend, must pre-register online at http://www.edjassociates.com/facjj/2007/home.asp. Should problems arise with web registration, please call Daryel Dunston at 240-221-4343 or send a request to register for the October, 2007 FACJJ meeting to Mr. Dunston. Please include name, title, organization or other affiliation, full address and phone, fax and email information and send to his attention either by fax at: 301-945-4295 or by e-mail to ddunston@edjassociates.com. Members of the public must register by Friday, October 12, 2007. [Note: these are not toll-free telephone numbers.] Additional identification documents may be required. Space is limited. Please note: Photo identification will be required for admission to the meeting.

Written Comments

Interested parties may submit written comments by Friday, October 12, 2007, to Robin Delany-Shabazz, Designated Federal Official for the Federal Advisory Committee on Juvenile Justice, OJJDP, at Robin.Delany-Shabazz@usdoj.gov. If e-mail is not available, please fax your comments to 202-354-4063 and call Francesca Stern at 202-616-3551 to ensure that the fax was received. [Note: These are not toll-free numbers.] No oral presentations will be permitted at the meeting. However, written questions and comments from members of the public attending the meeting may be invited.

J. Robert Flores,
Administrator, Office of Juvenile Justice and Delinquency Prevention.

[FR Doc. E7-16636 Filed 8-22-07; 8:45 am]

BILLING CODE 4410-18-P